DEPARTMENT OF HEALTH AND HUMAN SERVICES

Centers for Disease Control and Prevention

[Program Announcement 02127]

Grants for Acute Care, Rehabilitation and Disability; Prevention Research Notice of Availability of Funds; Amendment

A notice announcing the availability of Fiscal Year (FY) 2002 funds for Grants for Acute Care, Rehabilitation, and Disability Prevention Research was published in the Federal Register on May 8, Volume 67, Number 89, pages 30932-30935. The notice is amended as follows:

On page 30932, third column, under Section C. Availability of Funds, Paragraph 1, line 1, should be changed to read “Approximately $900,000 is available in FY 2002* * *”

On page 30932, third column, under Section C. Availability of Funds, Paragraph 1, line 2, should be changed to read “* * * to fund approximately three to four awards”

On page 30932, third column, under Section C. Availability of Funds, Paragraph 2, line 6 through line 8, should be changed to read “The maximum funding level will not exceed $300,000 (including both direct and indirect costs) per year or $900,000 for the three-year project period.”

On page 30933, third column, under Section f. Submission and Deadline, Paragraph 1, line 1 to 2, should be changed to read “* * * June 24, 2002, submit the application* * *”

Dated: May 17, 2002.
Edward Schultz,
Acting Director, Procurement and Grants Office, Centers for Disease Control and Prevention.

[FR Doc. 02-12932 Filed 5-22-02; 8:45 am]

BILLING CODE 4163-18-P